DEPARTMENT OF THE INTERIOR

Bureau of Indian Affairs

Land Acquisitions; North Fork Rancheria of Mono Indians of California

AGENCY: Bureau of Indian Affairs, Interior.

ACTION: Notice of final agency determination.

SUMMARY: The Assistant Secretary—Indian Affairs made a final agency determination to acquire approximately 305.49 acres of land in trust for gaming purposes for the North Fork Rancheria of Mono Indians of California on November 26, 2012.

FOR FURTHER INFORMATION CONTACT: Paula L. Hart, Director, Office of Indian Gaming, Bureau of Indian Affairs, MS-3657 MIB, 1849 C Street NW., Washington, DC 20240; Telephone (202) 219-4066.

SUPPLEMENTARY INFORMATION: This notice is published in the exercise of authority delegated by the Secretary of the Interior to the Assistant Secretary—Indian Affairs by 209 Departmental Manual 8.1, and is published to comply with the requirements of 25 CFR 151.12(b) that notice be given of the Secretary's decision to acquire land in trust at least 30 days prior to signatory acceptance of the land into trust. On November 26, 2012, the Assistant Secretary—Indian Affairs decided to accept approximately 305.49 acres of land in trust for the North Fork Rancheria of Mono Indians of California under the authority of the Indian Reorganization Act of 1934, 25 U.S.C. 465.

The Site is located approximately 36 miles from the Tribe's current government headquarters, which are located in the town of North Fork, Madera County, California, described as:

Real property in the City of UNINCORPORATED AREA, County of Madera, State of California, described as follows:

PARCEL NO. 1: APN: 033-030-(010 THRU 015 AND 017)

PARCELS 1, 2, 3, 4, 5, 6, AND 8 of PARCEL MAP 3426 IN THE UNINCORPORATED AREA OF THE COUNTY OF MADERA, STATE OF CALIFORNIA, AS PER MAP RECORDED SEPTEMBER 7, 1995 IN BOOK 44, PAGES 15 AND 16 OF PARCEL MAPS, IN THE OFFICE OF THE COUNTY RECORDER OF SAID COUNTY.

Dated: November 26, 2012.
Kevin K. Washburn,
Assistant Secretary—Indian Affairs.

[FR Doc. 2012-29044 Filed 11-30-12; 8:45 am]

BILLING CODE 4310-4N-P